Proclamation 10620 of September 8, 2023

National Grandparents Day, 2023

By the President of the United States of America

A Proclamation

On National Grandparents Day, we give thanks to grandparents, who are the heart and soul of so many families.

Offering wisdom, sharing their own stories of courage and resilience, or leading us forward by the power of their example, grandparents define who we are and shape who we become. The First Lady and I were blessed with loving grandparents, and our grandchildren are the love of our lives and the life of our love.

For many families, grandparents are the glue holding everyone together. They drive their grandchildren to school and babysit when parents are busy. Sometimes, they become primary caregivers, giving children a stable home and loving role model. Grandparents give advice to young parents, pass on timeless family stories to younger generations, and open their hearts and homes for the people they love. I will never forget when my own grandpop took my family in when my father lost his job. My grandpop was a true example of what makes grandparents so special.

My Administration is working to respect the dignity of our grandparents and seniors. Through our Inflation Reduction Act, Medicare now has the authority to negotiate for lower prescription drug prices. Seniors on Medicare who used to pay as much as $400 a month for insulin are now paying $35 a month. In 2025, we are capping out-of-pocket spending on prescription drugs at the pharmacy at $2,000 annually for those on Medicare, making it easier to afford medication. My proposed budget will extend the Medicare trust fund for at least 25 years, preserving essential programs that Americans have counted on for generations. And as I have promised, I will continue fighting to protect Social Security and Medicare and will not agree to any cuts to either program.

On this occasion, my Administration reaffirms our commitment to looking after our Nation's grandparents, especially those who care for children. Last year, the Department of Health and Human Services released the first National Strategy to Support Family Caregivers. This plan outlines nearly 350 actions the Federal Government can take to support the health, well-being, and financial security of family caregivers, including the 2.7 million grandparents who serve as caregivers for children each year. Additionally, I signed an Executive Order directing Federal agencies to increase support of family caregivers and provide more care options for people with disabilities and their families. The American Rescue Plan provided $145 million to deliver counseling, training, and short-term relief to grandparents and other care providers. And for grandparents looking to share their love, the AmeriCorps Seniors Foster Grandparent program provides seniors with the opportunity to mentor young people in their communities.

Whether your grandparents called this country home from the moment they were born or came from distant shores, they have worked hard to give their children and their grandchildren a more prosperous future. In our hearts, we carry the lessons our grandparents instilled in us. And in ways big and small, we strive to build a future worthy of their highest hopes. On National Grandparents Day, we give thanks to our grandparents for their unconditional love and unmatched inspiration.

NOW, THEREFORE, I, JOSEPH R. BIDEN JR., President of the United States of America, by virtue of the authority vested in me by the Constitution and the laws of the United States, do hereby proclaim September 10, 2023, as National Grandparents Day. I call upon all Americans to celebrate the important role that grandparents play in the lives of their families and the children and grandchildren they love.

IN WITNESS WHEREOF, I have hereunto set my hand this eighth day of September, in the year of our Lord two thousand twenty-three, and of the Independence of the United States of America the two hundred and forty-eighth.

[FR Doc. 2023-19922

Filed 9-12-23; 8:45 am]

Billing code 3395-F3-P